DEPARTMENT OF HOUSING AND URBAN DEVELOPMENT

[Docket No. FR-5044-N-18]

Notice of Proposed Information Collection for Public Comment; Resident Opportunities and Supportive Services (ROSS) Program Forms for Applying for Funding

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments due date: December 4, 2006.

ADDRESSES: Interested persons are invited to submit comments regarding this proposal. Comments should refer to the proposal by name or OMB Control number and should be sent to: Aneita Waites, Reports Liaison Officer, Public and Indian Housing, Department of Housing and Urban Development, 451 7th Street, SW., Room 4116, Washington, DC 20410-5000.

FOR FURTHER INFORMATION CONTACT: Aneita Waites, (202) 708-0713, extension 4114, for copies of the proposed forms and other available documents. (This is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Application for the Resident Opportunities and Supportive Services (ROSS) Program.

OMB Approval Number: 2577-0229.

Form Number: HUD-52751, HUD-52752; HUD-52753, HUD-52754, HUD-52755, HUD-52756, HUD-52757, HUD-52763, HUD-52764, HUD-52767.

Description of the need for the information and proposed use: Applicants for ROSS grant funds submit applications for the following grant categories: ROSS/Family-Homeownership, ROSS-Elderly/Persons with Disabilities, and Family Self-Sufficienty for Public Housing. Applicants describe the activities they will undertake; indicate their expected outputs and outcomes; provide a budget; and indicate, in the case of nonprofit applicants, which resident groups support their application (per Congressional statute).

Respondents: Public Housing Authorities, not-for-profit organizations, public housing resident organizations, State, local or tribal governments.

Frequency of Submission: On occasion.

Number of respondents: 650.

Program subcomponent | Number of respondents | Annual responses | Hours per response | Estimated burden hours
Family | 300 | 1 | 11.5 | 4,650
Elderly | 150 | 1 | 11.5 | 2,325
FSS | 200 | 1 | 4.25 | 850
Total | 650 |  |  | 7,825

Total Estimated Burden Hours: 7,825.

Status: Revision of a currently approved collection.

Authority: Section 3506 of the Paperwork Reduction Act of 1995, 44 U.S.C. 35, as amended.

Members of affected public: Public Housing Authorities, not-for-profit organizations, public housing resident organizations, State, local or tribal governments.

Estimation of the total number of hours needed to prepare the information collection including number of respondents: 650 PHAs, not-for-profit organizations, public housing resident groups, State, local or tribal organizations apply for funding under one of the subcomponent programs under ROSS each year, hours per respondent to complete and submit a ROSS application varies according to program subcomponent, the total reporting burden is 19,350 hours.

Dated: September 27, 2006.
Merrie Nichols-Dixon,
Acting Deputy Assistant Secretary for Policy, Program, and Legislative Initiatives, Office of Public and Indian Housing.

[FR Doc. 06-8466 Filed 10-2-06; 8:45 am]

BILLING CODE 4210-67-M